DEPARTMENT OF VETERANS AFFAIRS

[OMB Control No. 2900-NEW]

Agency Information Collection Activity Under OMB Review: Veteran Self-Check Assessment (SCA)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION:

Authority: 44 U.S.C. 3501-21.

Title: Veteran Self-Check Assessment (SCA).

OMB Control Number: 2900-NEW.

Type of Review: New collection.

Abstract: The Veterans Crisis Line (VCL) Chat program allows Veterans, along with their families and friends, to interact online, anonymously, through chat services with a trained VCL Responder. The VCL Chat program is available to all Veterans who may or may not be enrolled in the VA health care system and provides them with online access to the VCL and the VA's suicide prevention services. For many Veterans, their first contact with VHA is through this program. To help facilitate Veterans' utilization of the Chat program and enhance the Chat Responders' ability to understand and respond effectively to Veteran-users, the VCL has implemented the Self-Check Assessment (SCA).

The SCA is an online, confidential, and anonymous risk assessment tool for U.S. Veterans, Active-Duty Service Members (ADSM), members of the National Guard and Reserves or family members of someone in one of those groups. The SCA tool is used to seamlessly link Veterans and their families with the VCL Chat program. At no point is the respondent asked to give their name or any other identifying information. The respondent is assigned a unique identifying number called a “Reference Code” that they use to get the VCL Responder's response to their SCA. The participant answers to the SCA are collected, and the program automatically calculates and lists their risk Tier based on their responses. The VCL Responder then reviews the SCA answers and sends a message to the participant, which they receive using their “Reference Code.” This messaging encourages the individual to connect to a VCL Responder via an online chat link on the page. The VCL Responder will engage the participant in exploring any service needs they may have and direct them on how they might benefit from VA or community-based services.

An agency may not conduct or sponsor, and a person is not required to respond to a collection of information unless it displays a currently valid OMB control number. The Federal Register notice with a 60-day comment period soliciting comments on this collection of information was published at 87 FR 188 on September 29, 2022, pages 59165 and 59166.

Affected Public: Individuals or households.

Estimated Annual Burden: 1,964 hours.

Estimated Average Burden per Respondent: 10 minutes.

Frequency of Response: On occasion.

Estimated Number of Respondents: 11,783.

By direction of the Secretary.
Maribel Aponte,
VA PRA Clearance Officer, Office of Enterprise and Integration, Data Governance Analytics, Department of Veterans Affairs.

[FR Doc. 2022-26816 Filed 12-8-22; 8:45 am]

BILLING CODE 8320-01-P